DEPARTMENT OF VETERANS AFFAIRS

Advisory Committee on Veterans Health Administration Resident Education, Notice of Meeting

The Department of Veterans Affairs gives notice under Public Law 92-463 (Federal Advisory Committee Act) that the Advisory Committee on Veterans Health Administration (VHA) Resident Education will meet December 9, 2004, from 8:30 a.m. until 3 p.m. This meeting will be held at the Ritz-Carlton, 1150 22nd Street, NW., Washington, DC. The meeting is open to the public.

The Committee has been established to provide broad assessment of physician resident positions in relationship to future health care needs of veterans. The Committee will affirm the philosophical principles governing VHA's internal Graduate Medical Education Advisory Committee, provide external perspective and national guidance on VHA resident education, and make recommendations regarding further actions to the Secretary.

The agenda topics for this meeting will include briefings and updates on the VHA Resident Education Program and reflect upon VHA's graduate medical education participation in the past, present, and future. The discussions will primarily center on evaluation of how VHA may best go forward with the goal of balancing the educational needs of resident physicians while providing excellent health care to veterans.

Any member of the public wishing to attend should contact Mr. Andrew Fleshman at the Department of Veterans Affairs, Office of Academic Affiliations (144), 810 Vermont Avenue, NW., Washington, DC 20420, by phone at (202) 273-8369, by fax at (202) 273-9031, or by e-mail at vhacooaa@va.gov. Interested persons may attend, appear before, or file statements with the Committee. Statements, if in written form, may be filed before the meeting or within 10 days after the meeting. One half hour of the Committee's session beginning at 2:30 p.m. will be set aside to receive oral public statements.

Dated: October 27, 2004.
By Direction of the Secretary.
E. Philip Riggin,
Committee Management Officer.

[FR Doc. 04-25796 Filed 11-18-04; 8:45 am]

BILLING CODE 8320-01-P